DEPARTMENT OF TRANSPORTATION

Coast Guard

[CGD08-01-047]

Lower Mississippi River Waterways Safety Advisory Committee; Vacancies

AGENCY: Coast Guard, DOT.

ACTION: Request for applications.

SUMMARY: The Coast Guard seeks applications for membership on the Lower Mississippi River Waterway Safety Advisory Committee (LMRWSAC). LMRWSAC advises and makes recommendations to the Coast Guard on matters relating to the transit of vessels and products to and from ports on the Lower Mississippi River.

DATES: Application forms should be received by the Coast Guard on or before February 1, 2002.

ADDRESSES: You may request an application form by writing to U.S. Coast Guard, Marine Safety Office New Orleans, 1615 Poydras Street, New Orleans, LA 70112-2711, ATTN: Waterways Management; by calling 504-589-4222; or by faxing 504-589-4241. Send your application in written form to the above street address. This notice and the application form are also available via the internet at http://dms.dot.gov.

FOR FURTHER INFORMATION CONTACT: LT Ricardo Alonso, Committee Administrator of LMRWSAC, telephone (504) 589-4252, fax (504) 589-4241.

SUPPLEMENTARY INFORMATION: The Lower Mississippi River Waterways Safety Advisory Committee (LMRWSAC) is a Federal advisory committee under 5 U.S.C. App. 2. This committee provides local expertise on communication, surveillance, traffic control, anchorages, aids to navigation and other related topics dealing with navigational safety on the Lower Mississippi River. The committee normally meets twice a year at the Hale Boggs Federal Building, 501 Magazine Street, New Orleans, Louisiana.

The committee consists of 24 members who have particular expertise, knowledge, and experience regarding transportation, equipment, and techniques that are used to ship cargo and navigate vessels on the Lower Mississippi River and its connecting navigable waterways, including the Gulf of Mexico.

Each member serves a term of two years. Occasionally, some members may serve consecutive terms. All members serve at their own expense and receive no salary, reimbursement of travel expenses, or other compensation from the Federal Government.

Applications are sought for the following:

(1) Five members representing River Port Authorities between Baton Rouge, Louisiana, and the Head of Passes of the Lower Mississippi River, of which one member shall be from the Port of St. Bernard and one member from the Port of Plaquemines.

(2) Two members representing vessel owners or ship owners domiciled in the State of Louisiana.

(3) Two members representing organizations that operate harbor tugs or barge fleets in the geographical area covered by the Committee.

(4) Two members representing companies that transport cargo or passengers on the navigable waterways in the geographical area covered by the Committee.

(5) Three members representing State Commissioned Pilot organizations, with one member each representing the New Orleans/Baton Rouge Steamship Pilots Association, the Crescent River Port Pilots Association, and the Associated Branch Pilots Association.

(6) Two at-large members who utilize water transportation facilities located in the geographical area covered by the Committee.

(7) Three members representing consumers, shippers, or importers/exporters that utilize vessels which utilize the navigable waterways covered by the Committee.

(8) Two members representing those licensed merchant mariners, other than pilots, who perform shipboard duties on those vessels which utilize navigable waterways covered by the Committee.

(9) One member representing an organization that serves in a consulting or advisory capacity to the maritime industry.

(10) One member representing an environmental organization.

(11) One member representing the general public.

In support of the policy of the Department of Transportation on gender and ethnic diversity, we encourage qualified women and members of minority groups to apply.

If you are selected as a member who represents the general public, we will require you to complete a Confidential Financial Disclosure Report (OGE Form 450). We may not release the report or the information in it to the public, except under an order issued by a Federal court or as otherwise provided under the Privacy Act (5 U.S.C. 552a).

Dated: December 10, 2001.
Roy J. Casto,
Rear Admiral, U.S. Coast Guard, Commander, Eight Coast Guard District.

[FR Doc. 01-31392 Filed 12-19-01; 8:45 am]

BILLING CODE 4910-15-U